DEPARTMENT OF THE INTERIOR

National Park Service

[NPS-WASO-NRNHL-DTS#-26368; PPWOCRADI0, PCU00RP14.R50000]

National Register of Historic Places; Notification of Pending Nominations and Related Actions

AGENCY: National Park Service, Interior.

ACTION: Notice.

SUMMARY: The National Park Service is soliciting comments on the significance of properties nominated before August 25, 2018, for listing or related actions in the National Register of Historic Places.

DATES: Comments should be submitted by October 1, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before August 25, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Beverly Fairfax Historic District, Roughly bounded by N. Gardner & Vista Sts., Beverley Blvd., Rosewood, Melrose & N Fairfax Aves., Los Angeles, SG100002993

Napa County

St. Helena Public Cemetery, 2461 Spring St., St. Helena, SG100002994

San Diego County

Ramona Main Street Colonnade, CA 67/78—Main St., Ramona, SG100002995

CONNECTICUT

Middlesex County

Cypress Cemetery, 100 College St., Old Saybrook, SG100003006

IOWA

Johnson County

First Unitarian Church, 10 S Gilbert St., Iowa City, SG100002996

MICHIGAN

Oakland County

Newberry, Milo Prentice, House, 705 Bloomer Rd., Rochester, SG100002997

OHIO

Cuyahoga County

Reidy Bros. & Flanigan Building, 11730 Detroit Ave., Lakewood, SG100002999

SOUTH CAROLINA

Dorchester County

St. George Rosenwald School, (Rosenwald School Building Program in South Carolina, 1917-1932), 205 Ann St., St. George, MP100003000

Florence County

Griffin Motor Company, 329 N Irby St., Florence, SG100003001

Richland County

Columbia Historic District II (Boundary Increase II and Boundary Decrease), 1328 Blanding St., Columbia, BC100003002

VIRGINIA

Richmond Independent City

St. Luke Building (Boundary Increase), 902-904 St. James St., Richmond (Independent City), BC100003005

WISCONSIN

Vilas County

St. Peter's Catholic School, 115 S 3rd St., Eagle River, SG100003008

Additional documentation has been received for the following resources:

SOUTH DAKOTA

Buffalo County

Long View Stock Farm, 22182 361st Ave., Gann Valley vicinity, AD100002808

VIRGINIA

Richmond Independent City

St. Luke Building, 900 St. James St., Richmond (Independent City), AD82004589

WISCONSIN

Door County

Murphy Farms Number 1, 7195, 7199, 7203, 7207, 7212, & 7213 Horseshoe Bay Rd., Egg Harbor, AD12000314

Authority: Section 60.13 of 36 CFR part 60.

Dated: August 27, 2018.
Julie H. Ernstein,
Acting Chief, National Register of Historic Places/National Historic Landmarks Program and Deputy Keeper of the National Register of Historic Places.

[FR Doc. 2018-20004 Filed 9-13-18; 8:45 am]

BILLING CODE 4312-52-P